DEPARTMENT OF DEFENSE

GENERAL SERVICES ADMINISTRATION

NATIONAL AERONAUTICS AND SPACE ADMINISTRATION

[OMB Control No. 9000-0060; Docket No. 2019-0003; Sequence No. 20]

Submission for OMB Review; Accident Prevention Plans

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding accident prevention plans.

DATES: Submit comments on or before August 19, 2019.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Lois Mandell/IC 9000-0060, Accident Prevention Plans.

Instructions: All items submitted must cite Information Collection 9000-0060, Accident Prevention Plans. Comments received generally will be posted without change to http://www.regulations.gov, including any personal and/or business confidential information provided. To confirm receipt of your comment(s), please check www.regulations.gov, approximately two-to-three days after submission to verify posting (except allow 30 days for posting of comments submitted by mail).

FOR FURTHER INFORMATION CONTACT: Zenaida Delgado, Procurement Analyst, at telephone 202-969-7207, or zenaida.delgado@gsa.gov.

SUPPLEMENTARY INFORMATION:

A. OMB Control Number, Title, and Any Associated Form(s)

9000-0060, Accident Prevention Plans.

B. Needs and Uses

The Federal Acquisition Regulation (FAR) clause at 52.236-13, Accident Prevention, requires Federal construction contractors to provide and maintain work environments and procedures which will safeguard the public and Government personnel, property, materials, supplies, and equipment exposed to contractor operations and activities; avoid interruptions of Government operations and delays in project completion dates; and control costs in the performance of the contract.

For these purposes on contracts for construction or dismantling, demolition, or removal of improvements, the contractor is required to provide appropriate safety barricades, signs, and signal lights; comply with the standards issued by the Secretary of Labor at 29 CFR part 1926 and 29 CFR part 1910; and ensure that any additional measures the contracting officer determines to be reasonably necessary for the purposes are taken.

Whenever the contracting officer becomes aware of any noncompliance with these requirements or any condition which poses a serious or imminent danger to health or safety, the contracting officer shall provide a notice to the contractor and request immediate corrective action. Per FAR 36.513, the contracting officer should inform the Occupational Safety and Health (OSH) Administration (OSHA), or other cognizant Federal, State, or local officials, of instances where the contractor has been notified to take immediate action to correct serious or imminent dangers. With regard to recordkeeping, the OSH Act specifies that “[e]ach employer shall make, keep and preserve, and make available to the Secretary . . . such records . . . as the Secretary . . . may prescribe by regulation as necessary or appropriate for the enforcement of this Act . . . .” (29 U.S.C. 657(c)(1)). Accordingly, OSHA has received the Office of Management and Budget (OMB) clearance for a number of related OMB Control Nos.

When performance is on a Government facility or will involve work of a long duration or hazardous nature, before commencing the work, the contractor must submit a written proposed plan for implementing this clause, as required by alternate I of the clause. The plan shall include an analysis of the significant hazards to life, limb, and property inherent in contract work performance and a plan for controlling those hazards.

C. Annual Burden

Respondents: 362.

Responses per Respondent: 1.

Total Annual Responses: 362.

Hours per Response: 22.

Total Burden Hours: 7,964.

D. Public Comment

A 60-day notice was published in the Federal Register at 84 FR 18039, on April 29, 2019. No comments were received.

Obtaining Copies: Requesters may obtain a copy of the information collection documents from the General Services Administration, Regulatory Secretariat Division (MVCB), 1800 F Street NW, Washington, DC 20405, telephone 202-501-4755. Please cite OMB Control No. 9000-0060, Accident Prevention Plans, in all correspondence.

Dated: July 16, 2019.
Janet Fry,
Director, Federal Acquisition Policy Division, Office of Governmentwide Acquisition Policy, Office of Acquisition Policy, Office of Governmentwide Policy.

[FR Doc. 2019-15370 Filed 7-18-19; 8:45 a.m.]

BILLING CODE 6820-EP-P